ENVIRONMENTAL PROTECTION AGENCY

[FRL OPRM-FAD-204]

Environmental Impact Statements; Notice of Availability

Responsible Agency: Office of Federal Activities, General Information 202-993-3272 or https://www.epa.gov/nepa.

Weekly receipt of Environmental Impact Statements (EIS)

Filed December 26, 2025 10 a.m. EST Through January 5, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250176, Draft Supplement, NRC, SC, Generic Environmental Impact Statement for License Renewal of Nuclear Plants, Supplement 13, Second Renewal, Regarding Subsequent License Renewal for H.B. Robinson Steam Electric Plant, Unit No. 2, Draft Report for Comment, Comment Period Ends: 02/23/2026, Contact: Karen Loomis 301-415-5142.

EIS No. 20250177, Draft, UDOT, UT, Heber Valley Corridor EIS, Comment Period Ends: 03/09/2026, Contact: Naomi Kisen 801-965-4005.

EIS No. 20250178, Draft, DOE, MT, North Plains Connector Project, Comment Period Ends: 02/23/2026, Contact: NEPA Document Manager 202-586-2006.

EIS No. 20250179, Draft Supplement, NRC, FL, Generic Environmental Impact Statement for License Renewal of Nuclear Plants, Supplement 11, Second Renewal, Regarding Subsequent License Renewal for St. Lucie Plant, Units 1 and 2, Draft Report for Comment, Comment Period Ends: 02/23/2026, Contact: Lance J. Rakovan 301-415-2589.

Dated: January 5, 2026.
Nancy Abrams,
Deputy Director, Federal Activities Division.

[FR Doc. 2026-00252 Filed 1-8-26; 8:45 am]

BILLING CODE 6560-50-P